ENVIRONMENTAL PROTECTION AGENCY

[EPA-HQ-OAR-2002-0038; FRL-8555-2]

Agency Information Collection Activities; Submission to OMB for Review and Approval; Comment Request; Requirements for Control Technology Determinations From Major Sources in Accordance With Clean Air Act Sections, Sections 112(g) and 112(j); EPA ICR No. 1648.06, OMB Control No. 2060-0266

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew a lapsed approved collection. The ICR, which is abstracted below, describes the nature of the information collection and its estimated burden and cost.

DATES: Additional comments may be submitted on or before May 19, 2008.

ADDRESSES: Submit your comments, referencing Docket ID No. EPA-HQ-OAR-2002-0038 to (1) EPA online using http://www.regulations.gov (our preferred method), by e-mail to a-and-r-docket@epa.gov, or by mail to: Air and Radiation Docket and Information Center, Environmental Protection Agency, Mailcode: 6102T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Rick Colyer, U.S. EPA, Office of Air Quality Planning and Standards, Sector Policy and Programs Division, Program Design Group, D205-02, Research Triangle Park, North Carolina 27711, telephone number (919) 541-5262, e-mail colyer.rick@epa.gov.

SUPPLEMENTARY INFORMATION: EPA has submitted the following ICR to OMB for review and approval according to the procedures prescribed in 5 CFR 1320.12. On November 2, 2007 (72 FR 62226) EPA sought comments on this ICR pursuant to 5 CFR 1320.8(d). EPA received 6 comment letters during the comment period, which are addressed in the ICR Supporting Statement. Any additional comments on this ICR should be submitted to EPA and OMB within 30 days of this notice.

EPA has established a public docket for this ICR under Docket ID No. EPA-HQ-OAR-2002-0038, which is available for online viewing at http://www.regulations.gov, or in person viewing at the Air Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Air Docket is 202-566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, CBI, or other information whose public disclosure is restricted by statute. For further information about the electronic docket, go to http://www.regulations.gov.

Title: Information Collection Request for Requirements for Control Technology Determinations From Major Sources in Accordance With Clean Air Act Sections, Sections 112(g) and 112(j).

ICR numbers: EPA ICR No. 1648.06, OMB Control No. 2060-0266.

ICR status: The previous ICR expired on May 31, 2005. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The regulations governing section 112(j) case-by-case MACT determinations were promulgated on May 20, 1994 (59 FR 26449), and amended last on May 30, 2003 (68 FR 32586).

The affected entities of this ICR are major sources of polyvinyl chloride and copolymers production; brick and structural clay products manufacturing; clay ceramics manufacturing; and industrial, commercial, and institutional boilers and process heaters. Previous MACT standards for these source categories have been vacated by the U.S. Court of Appeals for the District of Columbia Circuit. Sources previously subject or would have been subject to those MACT standards would be those entities affected by this ICR.

Owners and operators of affected sources must submit title V permit applications or amendments to establish case-by-case MACT terms and conditions. We anticipate that this ICR will cover any activities involving preparing, submitting, and reviewing the Parts 1 and 2 permit applications and applicability determinations, developing the title V permit terms and conditions, and the permit review and approval process.

Burden Statement: The annual public reporting and recordkeeping burden for this collection of information is estimated to average 92.6 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Respondents include owners/operators of major sources of hazardous air pollutants (HAPs) in the following source categories: polyvinyl chloride and copolymers production, brick and structural clay products manufacturing, clay ceramics manufacturing, and industrial, commercial, and institutional boilers and process heaters.

Estimated Number of Respondents: 2,573.

Frequency of Response: Once.

Estimated Total Annual Hour Burden: 151,730.

Estimated Total Annual Cost: $9,995,666.

Changes in the Estimates: There is a decrease of 20,470 hours in the total estimated burden previously identified in the expired ICR in the OMB Inventory of Approved ICR Burdens.

The ICR 1648.04 spanned the period in which the section 112(j) rule would have applied to any of the 59 source categories covered by the 2000 MACT standards (the 10-year bin). This ICR would affect only the 4 source categories covered by the MACT standards that have been vacated by the United States Court of Appeals for the District of Columbia Circuit. Unlike ICR No. 1648.04, which estimated the burden from the Part 1 application only (because all the MACT standards were promulgated before Part 2 applied), this ICR estimates burden for preparing, submitting, and reviewing the Parts 1 and 2 permit applications and applicability determinations, developing the title V permit terms and conditions, and the permit review and approval process.

This ICR also estimates the number of responses on a facility basis instead of an individual boiler basis as the previous ICR did, because each facility will submit one application for the facility, not each boiler.

Finally, EPA has updated the labor rates for respondents, State, Local, and Tribal agencies, and the EPA. These adjustments were made to more accurately reflect the true cost of an hour of labor for the respondents, State, Local, and Tribal agencies, and the EPA. The unloaded hourly rates are different because they are based on the latest available rates from the BLS and the OPM.

In summary, the difference in the burden estimate is due to the adjustments discussed above, including number of respondents, submittal of permit applications, development of the permit, and updated labor rates.

Dated: April 11, 2008.
Sara Hisel-McCoy,
Director, Collection Strategies Division.

[FR Doc. E8-8330 Filed 4-16-08; 8:45 am]

BILLING CODE 6560-50-P